SMALL BUSINESS ADMINISTRATION

Midwest Mezzanine Fund V SBIC, L.P., License No. 05/05-0318; Notice Seeking Exemption Under Section 312 of the Small Business Investment Act, Conflicts of Interest

Notice is hereby given that Midwest Mezzanine Fund V SBIC, L.P., 55 West Monroe Street, Suite 3650 Chicago, IL 60603, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Midwest Mezzanine Fund V SBIC, L.P., proposes providing subordinated debt financing to Microdynamics Corporation, Inc. of 1400 Shore Rd., Naperville, IL 60563-8765. The financing by Midwest Mezzanine Fund V SBIC, L.P. will discharge obligations held by Midwest Mezzanine IV, LLC and Midwest Mezzanine IV Parallel Fund, LLC. This financing is brought within the purview of § 107.730 of the Regulations because Midwest Mezzanine Fund V SBIC, L.P., Midwest Mezzanine IV, LLC and Midwest Mezzanine IV Parallel Fund, LLC are Associates and these Associates hold over five percent of the equity in Microdynamics Corporation, Inc., therefore this transaction requires prior SBA exemption.

Notice is hereby given that any interested person may submit written comments on the transaction, within fifteen days of the date of this publication, to the Associate Administrator for Investment and Innovation, U.S. Small Business Administration, 409 Third Street SW., Washington, DC 20416.

Javier E. Saade,
Associate Administrator for Office of Investment and Innovation.

[FR Doc. 2015-09101 Filed 4-20-15; 8:45 am]

BILLING CODE 8025-01-P